DEPARTMENT OF HEALTH AND HUMAN SERVICES

Centers for Disease Control and Prevention

[30DAY-47-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Hospital Bioterrorism Needs Assessment—New—National Center for Infectious Disease (NCID), Centers for Disease Control and Prevention (CDC). In October-November 2001, following the reports of anthrax cases, the infection control community indicated to the Division of Healthcare Quality Promotion that there was a need for more bioterrorism-related information. A needs assessment was created and pilot tested in eight hospitals to assist DHQP in providing guidance to hospitals for preparedness and response. The needs assessment will gather information that will help the Division and other areas of CDC in evaluating CDC strategies for identifying and developing the materials and communication mechanisms that hospitals need most to adequately prepare for and respond to possible bioterrorism events in the future. The Division of Healthcare Quality Promotion has a more than 30-year history of being seen as a reliable source of information to the infection control community. Our objective is to determine the needs of hospitals so they are adequately prepared to recognize and treat bioterrorism-related diseases and prevent further transmission of disease. This will ultimately enable them to do their jobs better, identify bioterrorism events more quickly, and prevent morbidity and mortality.

The needs assessment will assess the bioterrorism planning and preparedness, resources and communication, impact of anthrax events, surveillance for bioterrorism-related diseases, education and training, and information needs in hospitals. The data from responding hospitals will be used to develop improved methods of communication to healthcare providers and facilities, establish the best way for CDC to disseminate materials, assure disaster plans are in place, and determine what information from CDC is of greatest need to healthcare facilities.

The data collection will use web-based technology to gather information in a systematic fashion to better assist hospitals. These topics were chosen for the needs assessment by staff members of the Division of Healthcare Quality Promotion, who provided expertise to healthcare facilities after the September 11th attacks. The estimated annualized burden is 1,000 hours.

Title | Number of respondents | Number of responses/respondent | Average burden/ response (in hrs.)
Bioterrorism needs assessment for healthcare facilities | 4,000 | 1 | 15/60

Dated: September 19, 2002.
Nancy Cheal,
Acting Associate Director for Policy, Planning and Evaluation Centers for Disease Control and Prevention.

[FR Doc. 02-24402 Filed 9-25-02; 8:45 am]

BILLING CODE 4163-18-P